NUCLEAR REGULATORY COMMISSION

[Docket No. 040-08794]

Notice of License Termination and Release of Molycorp's Property In York, PA for Unrestricted Release

AGENCY: Nuclear Regulatory Commission.

ACTION: Notice of license termination and site release for unrestricted use.

FOR FURTHER INFORMATION CONTACT: Thomas G. McLaughlin, Materials Decommissioning Section, Division of Waste Management and Environmental Protection, NRC, Washington, DC 20555; telephone (301) 415-5869; fax (301) 415-5397; or e-mail at tgm@nrc.gov.

SUPPLEMENTARY INFORMATION:

I. Introduction

Pursuant to 10 CFR 2.106, the Nuclear Regulatory Commission (NRC) is providing notice that it is terminating license SMB-1408 for Molycorp, Inc. (Molycorp or Licensee), and releasing the Molycorp property in York, PA, for unrestricted use. The Licensee's request for an amendment to authorize decommissioning of its former rare earth processing facility in York, PA, was previously noticed in the Federal Register on May 13, 1996 (61 FR 22075) with a notice of an opportunity to request a hearing.

Molycorp provided a final radiological status survey and performed an on-site and off-site dose analysis to demonstrate the site meets the license termination criteria in Subpart E of 10 CFR part 20. In addition, NRC staff conducted independent measurements of residual contamination remaining at the site.

The NRC staff has evaluated the Molycorp request, has reviewed the results of the final radiological survey, has performed confirmatory measurements throughout the site property, and has determined that the site cleanup meets the Site Decommissioning Management Plan criteria as well as the unrestricted release dose criteria in 10 CFR 20.1402. The Commission has concluded that the site is suitable for release for unrestricted use, and has terminated the license for the Molycorp York, PA property. The staff prepared a Safety Evaluation Report (SER) to support the proposed action.

II. Further Information

In accordance with 10 CFR 2.790 of the NRC's “Rules of Practice,” details with respect to this action, including the SER, are available electronically at the NRC's Electronic Reading Room at http://www.nrc.gov/reading-rm/adams.html. From this site, you can access the NRC's Agencywide Document Access and Management System (ADAMS), which provides text and image files of NRC's public documents. The ADAMS accession number for the document “Release of Molycorp York Pennsylvania Property and Termination of License (License No. SMB-1408)” is ADAMS No. ML042310150. If you do not have access to ADAMS or if there are problems in accessing a document located in ADAMS, contact the NRC Public Document Room (PDR) Reference staff at 1-800-397-4209, (301) 415-4737, or by e-mail to pdr@nrc.gov.

These documents may also be viewed electronically on the public computers located at the NRC's Public Document Room (PDR), O 1 F21, One White Flint North, 11555 Rockville Pike, Rockville, MD 20852. The PDR reproduction contractor will copy documents for a fee.

For the Nuclear Regulatory Commission.
Dated at NRC, Rockville, MD, this 2nd day of September, 2004.
Daniel M. Gillen,
Deputy Director, Decommissioning Directorate, Division of Waste Management and Environmental Protection, Office of Nuclear Material Safety and Safeguards.

[FR Doc. 04-20391 Filed 9-8-04; 8:45 am]

BILLING CODE 7590-01-P